SECURITIES AND EXCHANGE COMMISSION

[Release No. 34-54411A; File No. SR-NASD-2004-171]

Self-Regulatory Organizations; National Association of Securities Dealers, Inc.; Order Approving Proposed Rule Change Relating to Rule 2340 Concerning Customer Account Statements

October 6, 2006.

Correction

FR Doc. E6-15186, beginning on page 54105 in the issue of September 13, 2006,¹ contained an incorrect footnote. On page 54107, in the 1st column, footnote 24 provided an incomplete description of an explanation of an interpretive position in Securities Exchange Act Release No. 31511.

¹ See Securities Exchange Act Release No. 54411 (Sept. 7, 2006), 71 FR 54105 (Sept. 13, 2006).

The corrected citation to Release No. 31511 in footnote 24 reads as follows:

“See Securities Exchange Act Release No. 31511 (Nov. 24, 1992), 57 FR 56973 (Dec. 2, 1992) (amending the SEC's net capital rule and explaining the staff's interpretation that to avoid more stringent capital requirements under the rule, an introducing firm must “have in place a clearing agreement with a registered broker-dealer that states, for the purposes of SIPA and the Commission's financial responsibility rules, customers are customers of the clearing, and not the introducing, firm. Furthermore, the clearing firm must issue account statements directly to customers. Each statement must contain the name and telephone number of a responsible individual at the clearing firm whom a customer can contact with inquiries regarding the customer's account.”).”

For the Commission, by the Division of Market Regulation, pursuant to delegated authority.²

² 17 CFR 200.30-3(a)(12).

Jill M. Peterson,
Assistant Secretary.

[FR Doc. E6-17180 Filed 10-16-06; 8:45 am]

BILLING CODE 8011-01-P